DEPARTMENT OF VETERANS AFFAIRS

38 CFR Part 3

RIN 2900-AJ55

Certification of Evidence for Proof of Service

AGENCY: Department of Veterans Affairs.

ACTION: Proposed rule.

SUMMARY: This document proposes to amend the Department of Veterans Affairs (VA) adjudication regulations concerning the nature of evidence that VA will accept as proof of military service. Currently, VA will only accept original service documents or copies of service documents issued by the service department or by a public custodian of records. This change would authorize VA to accept photocopies of service documents as evidence of military service if they are certified to be true copies of documents acceptable to VA by an accredited agent, attorney, or service organization representative who has successfully completed VA-prescribed training on military records. The intended effect of this amendment is to streamline the processing of claims for benefits.

DATES: Comments must be received on or before August 28, 2000.

ADDRESSES: Mail or hand deliver written comments to: Director, Office of Regulations Management (02D), Department of Veterans Affairs, 810 Vermont Ave., NW., Room 1154, Washington, DC 20420; or fax comments to (202) 273-9289; or e-mail comments to “OGCRegulations@mail.va.gov”. Comments should indicate that they are submitted in response to “RIN 2900-AJ55.” All comments received will be available for public inspection in the Office of Regulations Management, Room 1158, between the hours of 8:00 a.m. and 4:30 p.m., Monday through Friday (except holidays).

FOR FURTHER INFORMATION CONTACT: Bill Russo, Regulations Staff, Compensation and Pension Service, Veterans Benefits Administration, 810 Vermont Avenue, NW., Washington, DC 20420, telephone (202) 273-7210.

SUPPLEMENTARY INFORMATION: The cornerstone of eligibility to VA benefits is active military, naval or air service. VA regulations at 38 CFR 3.203 establish the nature of the evidence VA will accept as proof of active military service. In general, those regulations require original service documents; VA will accept copies of those documents only if the copies are issued by the military service department or by a public custodian of records.

VA has initiated a business process reengineering (BPR) effort to improve the adjudication of claims for VA benefits. Two goals of this BPR effort are to establish a partnership with VA accredited representatives and to improve the timeliness of claims processing. Therefore, VA proposes to accept copies of discharge documents as evidence of military service, if they are certified as being true and exact copies of the originals by an accredited agent, attorney, or service organization representative who has successfully completed VA-prescribed training on military records.

We propose to amend 38 CFR 3.203 to allow VA to accept photocopies of service documents as proof of service if they are certified by a claimant's representative who has successfully completed VA-prescribed training on military records, to be true copies of the original documents. This proposed amendment will help streamline claims processing because it will reduce the number of instances where VA must seek verification of military service from the service department. We believe this can be done without compromising program integrity.

Under this proposed amendment, the claimant's representative must certify that the document is a true and exact copy either of an original document or of a copy issued by the service department or a public custodian of records.

However, under the amendment, VA would accept such certification only from VA accredited representatives who have successfully completed VA-prescribed training. These are representatives who, under the authority of 38 U.S.C. 5902 and 5904 and 38 CFR 14.626-14.629, the Secretary has authorized to prepare, present, and prosecute claims under laws administered by VA. Specifically, this includes accredited agents, attorneys, or accredited representatives of service organizations recognized by VA.

The Secretary hereby certifies that the adoption of the proposed rule would not have a significant economic impact on a substantial number of small entities as they are defined in the Regulatory Flexibility Act (RFA), 5 U.S.C. 601-612. The proposed rule would not directly affect any small entities. Only VA beneficiaries could be directly affected. Therefore, pursuant to 5 U.S.C. 605(b), these amendments are exempt from the initial and final regulatory flexibility analysis requirements of sections 603 and 604.

(The Catalog of Federal Domestic Assistance program numbers are 64.100, 64.101, 64.104, 64.105, 64.106, 64.109, 64.110, and 64.127.)

List of Subjects in 38 CFR Part 3

Administrative practice and procedure, Claims, Disability benefits, Health care, Pensions, Veterans, Vietnam.

Approved: June 14, 2000.
Togo D. West, Jr.,
Secretary of Veterans Affairs.

For the reasons set forth in the preamble, 38 CFR Part 3 is proposed to be amended as follows:

PART 3—ADJUDICATION

Subpart A—Pension, Compensation, and Dependency and Indemnity Compensation

1. The authority citation for Part 3, subpart A continues to read as follows:

Authority: 38 U.S.C. 501(a), unless otherwise noted.

§ 3.203 [Amended]

2. In § 3.203, paragraph (a)(1) is revised by adding “or, if the copy was submitted by an accredited agent, attorney, or service organization representative who has successfully completed VA-prescribed training on military records, and who certifies that it is a true and exact copy of either an original document or of a copy issued by the service department or a public custodian of records;” after “custody;”.

[FR Doc. 00-16163 Filed 6-26-00; 8:45 am]

BILLING CODE 8320-01-P